DEPARTMENT OF TRANSPORTATION

Federal Aviation Administration

RTCA Special Committee 193/EUROCAE Working Group 44; Terrain and Airport Databases

Pursuant to section 10(a)(2) of the Federal Advisory Committee Act (Pub. L. 92-463, 5 U.S.C., Appendix 2), notice is hereby given for a Special Committee 193/EUROCAE Working Group 44 meeting to be held April 3-7, 2000, starting at 9:00 a.m. The meeting will be held at EUROCONTROL Headquarters, Rue de la Fusee, 96, Brussels B-1130, Belgium.

The agenda will be as follows: April 3, Opening Plenary Session: (1) Welcome and Introductions; (2) Review/Approval of Meeting Agenda; (3) Review Summary of the Previous Meeting; (4) Presentations; (5) New Business; (Break into Subgroups 2 and 3); (6) Subgroup 2, Terrain and Obstacle Databases: (a) Review of Summary of the Previous Minutes; (b) Review of Actions Taken During the Previous Meeting; (c) Presentations; (d) Review of the Draft Document; (7) Subgroup 3, Airport Databases: (a) Review of Summary of the Previous Meeting Minutes; (b) Review of Actions Taken During the Previous Meeting; (c) Presentations; (d) Review of the Draft Document. April 4-6: (8) Subgroup 2, Continuation of Previous Days Discussions: (9) Subgroup 3, Continuation of Previous Days Discussion. April 7: Closing Plenary Session: (10) Summary of Subgroups 2 and 3 Meetings; (11) Assign Tasks; (12) Other Business; (13) Dates and Locations of Next Meetings; (14) Closing.

Attendance is open to the interested public but limited to space availability. With the approval of the chairman, members the public may present oral statements at the meeting. Persons wishing to present statements or obtain information should contact the RTCA Secretariat, 1140 Connecticut Avenue, NW., Washington, DC, 20036; (202) 833-9339 (phone), (202) 833-9434 (fax), or http://www.rtca/org (web site) or Mr. Philippe Caisso, at 011-33-5-62-14-5859 or e-mail CAISSOPhilippe@stna.dgac.fr. Members of the public may present a written statement to the committee at any time.

Issued in Washington, DC, on March 6, 2000.
Janice L. Peters,
Designated Official.

[FR Doc. 00-5958 Filed 3-9-00; 8:45 am]

BILLING CODE 4910-13-M